DEPARTMENT OF JUSTICE

Commission for the Review of FBI Security Programs

ACTION: Notice of closed meeting.

Date: March 12, 2002.

Place: Department of Justice, 950 Pennsylvania Avenue, NW., Washington, DC 20530.

Status: This meeting will be closed to the public.

Matters to be Considered: The purpose of the Commission for the Review of FBI Security Programs is to provide advice and recommendations on policy and procedural issues as they relate to the security programs of the Federal Bureau of Investigation. The Attorney General of the United States Department of Justice (DOJ) has determined that the meetings of the Commission will be closed to the public in accordance with the United States Code, Title 5, Section 552b, due to the likelihood that sensitive national security information regarding intelligence and counter-intelligence investigative techniques and procedures will be reviewed and discussed in an open forum. The potential release of this information could seriously jeopardize the integrity of our internal security programs; ongoing intelligence and counter-intelligence investigations, and could also endanger the lives and safety of FBI Special Agents, other intelligence community personnel, and individuals supporting our intelligence personnel.

FOR FURTHER INFORMATION CONTACT: George Ellard, Deputy Chief Investigative Counsel, (202) 616-1327.

Richard M. Rogers,
Deputy Chief Investigative Counsel, Commission for the Review of FBI Security Programs, Department of Justice.

[FR Doc. 02-1517 Filed 1-18-02; 8:45 am]

BILLING CODE 0A92-01-M